DEPARTMENT OF HOMELAND SECURITY

Federal Emergency Management Agency

[Docket ID FEMA-2016-0002]

Changes in Flood Hazard Determinations

AGENCY: Federal Emergency Management Agency, DHS.

ACTION: Final notice.

SUMMARY: New or modified Base(1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: March 10, 2016.
Roy E. Wright,
Deputy Associate Administrator for Insurance and Mitigation, Department of Homeland Security, Federal Emergency Management Agency.

State and county | Location and case No. | Chief executive officer of community | Community map repository | Effective date of modification | Community No.
Arkansas:
Benton (FEMA Docket No.: B-1549) | City of Rogers (15-06-0704P) | The Honorable Greg Hines, Mayor, City of Rogers, 301 West Chestnut Street, Rogers, AR 72756 | City Hall, 301 West Chestnut Street, Rogers, AR 72756 | Jan. 6, 2016 | 050013
Washington (FEMA Docket No.: B-1549) | City of Fayetteville (14-06-3204P) | The Honorable Lioneld Jordan, Mayor, City of Fayetteville, 113 West Mountain Street, Fayetteville, AR 72701 | City Hall, 113 West Mountain Street, Fayetteville, AR 72701 | Jan. 25, 2016 | 050216
Colorado:
Arapahoe (FEMA Docket No.: B-1549) | Unincorporated areas of Arapahoe County (15-08-0217P) | The Honorable Nancy N. Sharpe, Chair, Arapahoe County Board of Commissioners, 5334 South Prince Street, Littleton, CO 80120 | Arapahoe County Public Works and Development Department, 10730 East Briarwood Avenue, Centennial, CO 80112 | Jan. 15, 2016 | 080011
El Paso (FEMA Docket No.: B-1549) | City of Colorado Springs (15-08-0117P) | The Honorable John Suthers, Mayor, City of Colorado Springs, 30 South Nevada Avenue, Suite 601, Colorado Springs, CO 80901 | City Hall, 30 South Nevada Avenue, Colorado Springs, CO 80901 | Jan. 13, 2016 | 080060
Broomfield (FEMA Docket No.: B-1549) | City and County of Broomfield (15-08-0066P) | The Honorable Randy Ahrens, Mayor, City of Broomfield, 1901 Aspen Street, Broomfield, CO 80020 | City Hall, 1 Descombes Drive, Broomfield, CO 80020 | Jan. 11, 2016 | 085073
Jefferson (FEMA Docket No.: B-1549) | City of Lakewood (15-08-0111P) | The Honorable Bob Murphy, Mayor, City of Lakewood, Lakewood Civic Center South, 480 South Allison Parkway, Lakewood, CO 80226 | Public Works Department, 480 South Allison Parkway, Lakewood, CO 80226 | Jan. 22, 2016 | 085075
Jefferson (FEMA Docket No.: B-1549) | City of Westminster (15-08-0066P) | The Honorable Herb Atchison, Mayor, City of Westminster, 4800 West 92nd Avenue, Westminster, CO 80031 | City Hall, 4800 West 92nd Avenue, Westminster, CO 80031 | Jan. 11, 2016 | 080008
Delaware: Kent (FEMA Docket No.: B-1549) | Unincorporated areas of Kent County (15-03-0350P) | The Honorable P. Brooks Banta, President, Kent County Board of Commissioners, 555 Bay Road, Dover, DE 19901 | Kent County Public Works Department, 555 Bay Road, Dover, DE 19901 | Jan. 29, 2016 | 100001
Florida:
Charlotte (FEMA Docket No.: B-1549) | City of Punta Gorda (15-04-4050P) | The Honorable Carolyn Freeland, Mayor, City of Punta Gorda, 326 West Marion Avenue, Punta Gorda, FL 33950 | City Hall, 126 Harvey Street, Punta Gorda, FL 33950 | Jan. 22, 2016 | 120062
Collier (FEMA Docket No.: B-1554) | City of Marco Island (15-04-6066P) | The Honorable Larry Sacher, Chairman, City of Marco Island Council, 50 Bald Eagle Drive, Marco Island, FL 34145 | City Hall, 50 Bald Eagle Drive, Marco Island, FL 34145 | Feb. 1, 2016 | 120426
Collier (FEMA Docket No.: B-1554) | City of Naples (15-04-3687P) | The Honorable John Sorey III, Mayor, City of Naples, 735 8th Street South, Naples, FL 34102 | Planning Department, 295 Riverside Circle, Naples, FL 34102 | Feb. 8, 2016 | 125130
Lee (FEMA Docket No.: B-1554) | City of Bonita Springs (15-04-7945P) | The Honorable Ben L. Nelson, Jr., Mayor, City of Bonita Springs, 9101 Bonita Beach Road,, Bonita Springs, FL 34135 | Community Development Department, 9220 Bonita Beach Road, Bonita Springs, FL 34135 | Feb. 5, 2016 | 120680
Manatee (FEMA Docket No.: B-1549) | Town of Longboat Key (15-04-1422P) | The Honorable Jack Duncan, Mayor, Town of Longboat Key, 501 Bay Isles Road, Longboat Key, FL 34228 | Town Hall, 600 General Harris Street, Longboat Key, FL 34228 | Jan. 19, 2016 | 125126
Manatee (FEMA Docket No.: B-1549) | Unincorporated areas of Manatee County (15-04-1422P) | The Honorable Betsy Benac, Chair, Manatee County Board of Commissioners, P.O. Box 1000, Bradenton, FL 34206 | Manatee County Public Works Department, 1022 26th Avenue, East, Bradenton, FL 34205 | Jan. 19, 2016 | 120153
Martin (FEMA Docket No.: B-1554) | City of Stuart (15-04-4536P) | The Honorable Kelli Glass Leighton, Mayor, City of Stuart, 121 Southwest Flagler Avenue, Stuart, FL 34994 | City Hall, 121 Southwest Flagler Avenue, Stuart, FL 34994 | Jan. 29, 2016 | 120165
Miami-Dade (FEMA Docket No.: B-1549) | City of Miami (15-04-5201P) | The Honorable Tomas P. Regalado, Mayor, City of Miami, 3500 Pan American Drive, Miami, FL 33133 | City Hall, 444 Southwest 2nd Avenue, Miami, FL 33130 | Jan. 26, 2016 | 120650
Miami-Dade (FEMA Docket No.: B-1554) | City of Miami Beach (15-04-3498P) | The Honorable Philip Levine, Mayor, City of Miami Beach, 1700 Convention Center Drive, Miami Beach, FL 33139 | City Hall, 1700 Convention Center Drive, Miami Beach, FL 33139 | Feb. 5, 2016 | 120651
Monroe (FEMA Docket No.: B-1549) | Village of Islamorada (15-04-4517P) | The Honorable Mike Forster, Mayor, Village of Islamorada, 86800 Overseas Highway, Islamorada, FL 33036 | Village Hall, 86800 Overseas Highway, Islamorada, FL 33036 | Jan. 14, 2016 | 120424
Monroe (FEMA Docket No.: B-1549) | Unincorporated areas of Monroe County (15-04-3973P) | The Honorable Danny Kolhage, Mayor, Monroe County, 530 Whitehead Street, Suite 102, Key West, FL 33040 | Monroe County Building Department, 2798 Overseas Highway, Suite 300, Marathon, FL 33050 | Jan. 29, 2016 | 125129
Monroe (FEMA Docket No.: B-1554) | Unincorporated areas of Monroe County (15-04-7977P) | The Honorable Danny Kolhage, Mayor, Monroe County Board of Commissioners, 530 Whitehead Street, Suite 102, Key West, FL 33040 | Monroe County Building Department, 2798 Overseas Highway, Suite 300, Marathon, FL 33050 | Feb. 8, 2016 | 125129
Orange (FEMA Docket No.: B-1549) | Unincorporated areas of Orange County (15-04-1610P) | The Honorable Teresa Jacobs, Mayor, Orange County, 201 South Rosalind Avenue, 5th Floor, Orlando, FL 32801 | Orange County Public Works Department, 4200 South John Young Parkway, Orlando, FL 32839 | Jan. 28, 2016 | 120179
Osceola (FEMA Docket No.: B-1549) | Unincorporated areas of Osceola County (15-04-1788P) | The Honorable Brandon Arrington, Chairman, Osceola County Board of Commissioners, 1 Courthouse Square, Suite 4700, Kissimmee, FL 34741 | Osceola County Stormwater Division, 1 Courthouse Square, Suite 3100, Kissimmee, FL 34741 | Jan. 8, 2016 | 120189
Seminole (FEMA Docket No.: B-1549) | City of Lake Mary (15-04-5338P) | The Honorable David J. Mealor, Mayor, City of Lake Mary, 100 North Country Club Road, Lake Mary, FL 32746 | City Hall, 911 Wallace Court, Lake Mary, FL 32746 | Jan. 28, 2016 | 120416
Georgia:
Douglas (FEMA Docket No.: B-1549) | City of Douglasville (15-04-4421P) | The Honorable Harvey Persons, Mayor, City of Douglasville, 6695 Church Street, Douglasville, GA 30134 | Building Department, 6695 Church Street, Douglasville, GA 30134 | Jan. 25, 2016 | 130305
Douglas (FEMA Docket No.: B-1549) | Unincorporated areas of Douglas County (15-04-4421P) | The Honorable Tom Worthan, Chairman, Douglas County Board of Commissioners, 8700 Hospital Drive, 3rd Floor, Douglasville, GA 30134 | Douglas County Development Services Department, 8700 Hospital Drive, 1st Floor, Douglasville, GA 30134 | Jan. 25, 2016 | 130306
Mississippi: Harrison (FEMA Docket No.:B-1549) | City of Gulfport (15-04-4242P) | The Honorable Billy Hewes, Mayor, City of Gulfport, P.O. Box 1780, Gulfport, MS 39501 | City Hall, 1410 24th Avenue, Gulfport, MS 39501 | Jan. 15, 2016 | 285253
Montana:
Powder River (FEMA Docket No.:B-1538) | Town of Broadus (14-08-0420P) | The Honorable Milton L. Amsden, Mayor, City of Broadus, P.O. Box 659, Broadus, MT 59317 | Town Clerk's Office, P.O. Box 659, Broadus, MT 59317 | Jan. 20, 2016 | 300058
Powder River (FEMA Docket No.:B-1538) | Unincorporated areas of Powder River County (14-08-0420P) | Mr. Darold Zimmer, Chairman, Powder River County Board of Commissioners, P.O. Box 200, Broadus, MT 59317 | Powder River County Clerk and Recorder's Office, P.O. Box 200, Broadus, MT 59317 | Jan. 20, 2016 | 300163
Yellowstone (FEMA Docket No.: B-1549) | City of Laurel (15-08-1029P) | The Honorable Mark Mace, Mayor, City of Laurel, 803 West 4th Street, Laurel, MT 59044 | City Planner's Office, 115 West 1st Street, Laurel, MT 59044 | Jan. 8, 2016 | 300086
New Mexico: Bernalillo (FEMA Docket No.: B-1554) | City of Albuquerque (15-06-0268P) | The Honorable Richard J. Berry, Mayor, City of Albuquerque, 1 Civic Plaza Northwest, Albuquerque, NM 87102 | Development and Review Services Division, 600 2nd Street Northwest, Suite 201, Albuquerque, NM 87102 | Feb. 3, 2016 | 350002
North Carolina:
Wake (FEMA Docket No.: B-1554) | Town of Holly Springs (15-04-6644P) | The Honorable Richard G. Sears, Mayor, Town of Holly Springs, P.O. Box 8, Holly Springs, NC 27540 | Engineering Department, 128 South Main Street, Holly Springs, NC 27540 | Feb. 4, 2016 | 370403
Wake (FEMA Docket No.: B-1554) | Unincorporated areas of Wake County (15-04-6644P) | The Honorable James West, Chairman, Wake County Board of Commissioners, P.O. Box 550, Raleigh, NC 27602 | Wake County Environmental Services Department, 336 Fayetteville Street, Raleigh, NC 27602 | Feb. 4, 2016 | 370368
North Dakota:
McKenzie (FEMA Docket No.: B-1549) | City of Watford City (15-08-0808P) | The Honorable Brent Sanford, Mayor, City of Watford City, P.O. Box 422, Watford City, ND 58854 | Planning and Zoning Department, 213 2nd Street Northeast, Watford City, ND 58854 | Jan. 28, 2016 | 380344
McKenzie (FEMA Docket No.: B-1549) | Unincorporated areas of McKenzie County (15-08-0808P) | The Honorable Richard Cayko, Chairman, McKenzie County Board of Commissioners, 201 5th Street Northwest, Suite 543, Watford City, ND 58854 | McKenzie County Planning and Zoning Department, 201 5th Street Northwest, Suite 699, Watford City, ND 58854 | Jan. 28, 2016 | 380054
Pennsylvania: Westmoreland (FEMA Docket No.: B-1549) | Borough of Irwin (14-03-1433P) | The Honorable Robert Wayman, Mayor, Borough of Irwin, 424 Main Street, Irwin, PA 15642 | Borough Hall, 424 Main Street, Irwin, PA 15642 | Jan. 21, 2016 | 420881
South Carolina:
Charleston (FEMA Docket No.: B-1549) | Town of Mount Pleasant (15-04-5450P) | The Honorable Linda Page, Mayor, Town of Mount Pleasant, 100 Ann Edwards Lane, Mount Pleasant, SC 29464 | Town Hall, 100 Ann Edwards Lane, Mount Pleasant, SC 29464 | Jan. 13, 2016 | 455417
Charleston (FEMA Docket No.: B-1549) | Town of Mount Pleasant (15-04-7267P) | The Honorable Linda Page, Mayor, Town of Mount Pleasant, 100 Ann Edwards Lane, Mount Pleasant, SC 29464 | Town Hall, 100 Ann Edwards Lane, Mount Pleasant, SC 29464 | Jan. 15, 2016 | 455417
Charleston (FEMA Docket No.: B-1549) | Unincorporated areas of Charleston County (15-04-7267P) | The Honorable J. Elliot Summey, Chairman, Charleston County Council, 4045 Bridgeview Drive, North Charleston, SC 29405 | Charleston County, Planning and Zoning Department, 4045 Bridgeview Drive, North Charleston, SC 29405 | Jan. 15, 2016 | 455413
Texas:
Bexar (FEMA Docket No.: B-1549) | City of Castle Hills (14-06-2603P) | The Honorable Timothy A. Howell, Mayor, City of Castle Hills, 209 Lemonwood Drive, Castle Hills, TX 78213 | City Hall, 6915 West Avenue, Castle Hills, TX 78213 | Jan. 25, 2016 | 480037
Bexar (FEMA Docket No.: B-1549) | City of San Antonio (14-06-2603P) | The Honorable Ivy R. Taylor, Mayor, City of San Antonio, P. O. Box 839966, San Antonio, TX 78283 | Transportation and Capital Improvements Department, Storm Water Division, 1901 South Alamo Street, 2nd Floor, San Antonio, TX 78284 | Jan. 25, 2016 | 480045
Bexar (FEMA Docket No.: B-1554) | City of San Antonio (15-06-0789P) | The Honorable Ivy R. Taylor, Mayor, City of San Antonio, P.O. Box 839966, San Antonio, TX 78283 | Transportation and Capital Improvements Department, Storm Water Division, 1901 South Alamo Street, 2nd Floor, San Antonio, TX 78284 | Feb. 4, 2016 | 480045
Bexar (FEMA Docket No.: B-1554) | City of San Antonio (15-06-2623P) | The Honorable Ivy R. Taylor, Mayor, City of San Antonio, P.O. Box 839966, San Antonio, TX 78283 | Transportation and Capital Improvements Department, Storm Water Division, 1901 South Alamo Street, 2nd Floor, San Antonio, TX 78284 | Feb. 3, 2016 | 480045
Collin (FEMA Docket No.: B-1549) | Town of Prosper (15-06-0487P) | The Honorable Ray Smith, Mayor, Town of Prosper, P.O. Box 307, Prosper, TX 75078 | Engineering Services Department, 407 East 1st Street, Prosper, TX 75078 | Jan. 28, 2016 | 480141
Dallas (FEMA Docket No.: B-1549) | City of Cedar Hill (15-06-1030P) | The Honorable Rob Franke, Mayor, City of Cedar Hill, 285 Uptown Boulevard, Building 100, Cedar Hill, TX 75104 | City Hall, 285 Uptown Boulevard, Building 100, Cedar Hill, TX 75104 | Jan. 7, 2016 | 480168
Denton (FEMA Docket No.: B-1549) | Town of Prosper (15-06-1600P) | The Honorable Ray Smith, Mayor, Town of Prosper, P.O. Box 307, Prosper, TX 75078 | Engineering Services Department, 407 East 1st Street, Prosper, TX 75078 | Jan. 21, 2016 | 480141
El Paso (FEMA Docket No.: B-1554) | City of El Paso (15-06-1599P) | The Honorable Oscar Leeser, Mayor, City of El Paso, 300 North Campbell Street, El Paso, TX 79901 | City Hall, 300 North Campbell Street, El Paso, TX 79901 | Feb. 5, 2016 | 480214
Harris (FEMA Docket No.: B-1545) | Unincorporated areas of Harris County (15-06-1734P) | The Honorable Ed Emmett, Harris County Judge, 1001 Preston Street, Suite 911, Houston, TX 77002 | Harris County Permit Office, 10555 Northwest Freeway, Suite 120, Houston, TX 77092 | Jan. 11, 2016 | 480287
McLennan (FEMA Docket No.: B-1549) | City of Waco (15-06-1601P). | The Honorable Malcolm Duncan, Jr., Mayor, City of Waco, P.O. Box 2570, Waco, TX 76702 | Engineering Department, 401 Franklin Avenue, Waco, TX 76701 | Jan. 22, 2016 | 480461
McLennan (FEMA Docket No.: B-1549) | Unincorporated areas of McLennan County (15-06-1601P) | The Honorable Scott Felton, McLennan County Judge, 501 Washington Avenue, Waco, TX 76701 | McLennan County Engineering Department, 215 North 5th Street, Suite 130, Waco, TX 76701 | Jan. 22, 2016 | 480456
Williamson (FEMA Docket No.: B-1554) | City of Leander (14-06-2567P) | The Honorable Christopher Fielder, Mayor, City of Leander, 200 West Willis Street, Leander, TX 78641 | City Hall, 200 West Willis Street, Leander, TX 78641 | Feb. 5, 2016 | 481536
Utah:
Carbon (FEMA Docket No.: B-1545) | City of Price (15-08-0486P) | The Honorable Joe Piccolo, Mayor, City of Price, 185 East Main Street, Price, UT 84501 | City Hall, 185 East Main Street, Price, UT 84501 | Jan. 6, 2016 | 490036
Washington (FEMA Docket No.: B-1549) | City of Washington (15-08-0247P) | The Honorable Ken Neilson, Mayor, City of Washington, 111 North 100 East, Washington, UT 84780 | Planning and Zoning Department, 111 North 100 East, Washington, UT 84780 | Jan. 27, 2016 | 490182
Virginia: Fairfax (FEMA Docket No.: B-1549) | Unincorporated areas of Fairfax County (15-03-1596P) | The Honorable Edward L. Long, Jr., Fairfax County Executive, 12000 Government Center Parkway, Fairfax, VA 22035 | Fairfax County Planning and Zoning Department, 12000 Government Center Parkway, Fairfax, VA 22035 | Jan. 7, 2016 | 515525

[FR Doc. 2016-07391 Filed 3-31-16; 8:45 am]

BILLING CODE 9110-12-P